ENVIRONMENTAL PROTECTION AGENCY

40 CFR Part 80

[EPA-HQ-OAR-2014-0283; FRL 9915-08-OAR]

RIN 2060-AS19

Regulation of Fuels and Fuel Additives: Extension of the Reformulated Gasoline Program to Maine's Southern Counties

AGENCY: Environmental Protection Agency (EPA).

ACTION: Proposed rule.

SUMMARY: The Environmental Protection Agency (EPA) is proposing to extend the Clean Air Act's (CAA) prohibition against the sale of conventional gasoline in reformulated gasoline (RFG) areas to the southern Maine counties of York, Cumberland, Sagadahoc, Androscoggin, Kennebec, Knox, and Lincoln. This proposal is based on a request from the Governor of the State of Maine for areas within the ozone transport region established under the CAA. The CAA does not give the EPA discretion to deny a Governor's request on this matter. The scope of the EPA's discretion is limited to establishing the date that the prohibition commences. Consistent with the Governor's request, the EPA proposes that this prohibition commence on May 1, 2015 for all refiners, importers, and distributors in the Maine counties referenced in the Governor's request, and on June 1, 2015 for all retailers and wholesale purchaser-consumers in those counties. The EPA is also adding in its RFG opt-out rules a provision to reflect that there is a four-year minimum opt-in period for areas that opt into the RFG program on the basis of their location within the ozone transport region. This clarification will align the federal regulation for RFG opt-out requirements with the CAA.

DATES: Comments must be received on or before September 29, 2014 unless a public hearing is requested by September 12, 2014. If the EPA receives such a request, we will publish information related to the timing and location of the hearing and a new deadline for public comment.

ADDRESSES: Submit your comments, identified by Docket ID No. EPA-HQ-OAR-2014-0283, by one of the following methods:

• www.regulations.gov: Follow the on-line instructions for submitting comments.

• Email: a-and-r-Docket@epa.gov.

• Mail: Air Docket, Environmental Protection Agency, Mailcode: 6102T, 1200 Pennsylvania Ave. NW., Washington, DC 20460, Attention Docket ID No. EPA-HQ-OAR-2014-0283. Please include a total of two copies.

• Hand Delivery: Air and Radiation Docket, EPA Docket Center, WJC West Building, Room 3334, 1301 Constitution Avenue NW., Washington, DC 20004. Attention Docket ID No. EPA-HQ-OAR-2014-0283. Please include two copies. Such deliveries are accepted only during the Docket's normal hours of operation, and special arrangements should be made for deliveries of boxed information.

Instructions: Direct your comments to Docket ID No. EPA-HQ-OAR-2014-0283. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means that EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Patty Klavon, Office of Transportation and Air Quality, Environmental Protection Agency, 2000 Traverwood Drive, Ann Arbor, Michigan 48105; telephone number: (734) 214-4476; fax number: (734) 214-4052; email address: klavon.patty@epa.gov.

SUPPLEMENTARY INFORMATION: The contents of this preamble are listed in the following outline:

I. General Information

II. Public Participation

III. Background and Proposal

IV. Environmental Impact

V. Statutory and Executive Order Reviews

I. General Information

A. Does this action apply to me?

Entities potentially affected by this rule are fuel producers and distributors who do business in Maine.

Examples of potentially regulated entities | NAICS ¹ codes
Petroleum refineries | 324110
Gasoline Marketers and Distributors | 424710
| 424720
Gasoline Retail Stations | 447110
Gasoline Transporters | 484220
| 484230
¹ North American Industry Classification System.

The above table is not intended to be exhaustive, but rather provides a guide for readers regarding entities likely to be regulated by this action. The table lists the types of entities of which the EPA is aware that potentially could be affected by this rule. Other types of entities not listed on the table could also be affected by this rule. To determine whether your organization could be affected by this rule, you should carefully examine the regulations in 40 CFR 80.70. If you have questions regarding the applicability of this action to a particular entity, call the person listed in the FOR FURTHER INFORMATION CONTACT section of this preamble.

B. What should I consider as I prepare my comments?

1. Submitting CBI

Do not submit CBI to the EPA through www.regulations.gov or email. Clearly mark the part or all of the information that you claim to be CBI. For CBI information in a disk or CD-ROM that you mail to the EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments

When submitting comments, remember to:

• Identify the rulemaking by docket number and other identifying information (subject heading, Federal Register date and page number).

• Follow directions—The Agency may ask you to respond to specific questions or organize comments by referencing a Code of Federal Regulations (CFR) part or section number.

• Explain why you agree or disagree, suggest alternatives, and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

3. Docket Copying Costs

You may be required to pay a reasonable fee for copying docket materials.

II. Public Participation

A. Public Comments

Clean Air Act (CAA) section 211(k)(6)(B) states that, “[o]n application of the Governor of a State in the ozone transport region established by [section 184(a) of the CAA], the Administrator . . . shall apply the prohibition” against the sale of conventional gasoline to any area of the State other than an area classified as a marginal, moderate, serious, or severe ozone nonattainment area. CAA section 211(k)(6)(B) provides the EPA limited discretion to establish the date that this prohibition commences based on consideration of whether there is sufficient capacity to supply RFG to the area. However, the CAA does not give the EPA discretion to deny a Governor's request for an RFG opt-in for a qualifying area.

The EPA is acting on a request made by the Governor of the State of Maine to extend the CAA prohibition against the sale of conventional gasoline in RFG areas to the southern Maine counties of York, Cumberland, Sagadahoc, Androscoggin, Kennebec, Knox, and Lincoln (the “Southern Maine Counties”) which are part of the ozone transport region established by CAA Section 184(a). The State of Maine requested that the prohibition commence on June 1, 2015. Therefore, the scope of today's action is limited to proposing the date on which the prohibition commences for the Southern Maine Counties' opt-in to the federal RFG program, and not whether those counties should opt in to the federal RFG program. Thus, the EPA is not soliciting comments that support or oppose participation by the Southern Maine Counties in the federal RFG program. The EPA is, however, requesting comment regarding whether there will be a sufficient capacity to supply RFG to these seven counties beginning May 1, 2015 for refiners, importers, and distributors, and on June 1, 2015 for retailers and purchaser-consumers.

Additionally, the EPA is adding in its opt-out regulations at 40 CFR 80.72 a provision to reflect that there is a four-year minimum opt-in period for areas that opt into the RFG program on the basis of their location within the ozone transport region. This clarification will align the federal regulation for RFG opt-out requirements with CAA section 211(k)(6)(B)(ii)(II).

B. Public Hearing

The EPA will not hold a public hearing on this matter unless a request is received by the person identified in the FOR FURTHER INFORMATION CONTACT section of this preamble by September 12, 2014. If the EPA receives such a request, we will publish information related to the timing and location of the hearing and a new deadline for public comment.

III. Background and Proposal

A. Background on the Federal Reformulated Gasoline Program

The purpose of the federal RFG program is to improve air quality in certain areas through the use of gasoline that is reformulated to reduce motor vehicle emissions of tropospheric ozone-forming compounds, as set forth in CAA section 211(k)(1). The EPA first published regulations for the federal RFG program on February 16, 1994. (59 FR 7716). RFG makes up over 30 percent of the volume of motor vehicle gasoline consumed in the United States ² and is used in 17 states and the District of Columbia.³

² See the U.S. Energy Information Administration statistics on consumption and sales of petroleum and other liquids at: http://www.eia.gov/petroleum/reports.cfm?t=164.

³ For a map showing current RFG areas, please visit the EPA's Web site at: http://www.epa.gov/otaq/fuels/gasolinefuels/rfg/areas.htm.

CAA section 211(k)(5) prohibits the sale of conventional gasoline (i.e., gasoline that the EPA has not certified as reformulated) in certain ozone nonattainment areas beginning January 1, 1995. CAA section 211(k)(10)(D) defines the areas initially covered by the federal RFG program as ozone nonattainment areas having a 1980 population in excess of 250,000 and having the highest ozone design values during the period 1987 through 1989.⁴ In addition, under CAA section 211(k)(10)(D), any area reclassified as a severe ozone nonattainment area under CAA section 181(b) is also included in the federal RFG program. Finally, CAA sections 211(k)(6)(A) and (B) allow areas classified as Marginal, Moderate, Serious, or Severe ozone nonattainment areas, or areas within the ozone transport region established under CAA section 184, to opt into the RFG program at the request of the Governor of the State in which the area is located.

⁴ Applying these criteria, the EPA has determined the nine covered areas to be the metropolitan areas including Los Angeles, Houston, New York City, Baltimore, Chicago, San Diego, Philadelphia, Hartford, and Milwaukee.

Maine is in the ozone transport region established under CAA section 184, and its request to opt into the RFG program was made pursuant to CAA section 211(k)(6)(B). That provision specifies that upon petition of the Governor of a State in the ozone transport region in which the area is located, the EPA is to apply the prohibition against selling or dispensing of conventional gas in RFG covered areas in any area in the State other than an area classified as marginal, moderate, serious, or severe ozone nonattainment area under subpart 2 of part D of subchapter 1 of the Clean Air Act. This prohibition is to “commence as soon as practicable but not later than 2 years after the date of approval by the Administrator of the application of the Governor of the State.” CAA section 211(k)(6)(B)(ii)(I). However, if the EPA determines that there is insufficient capacity to supply RFG, the EPA may extend the commencement date by no more than a year, and may renew that extension for two additional one-year periods. CAA section 211(k)(6)(B)(iii). The area may not opt out of the federal RFG program earlier than 4 years after the RFG commencement date. CAA section 211(k)(6)(B)(ii)(II).

B. Request From the State of Maine

In 2013, the State of Maine enacted Public Law 2013 c.221 calling for the use of RFG in York, Cumberland, Sagadahoc, Androscoggin, Kennebec, Knox, and Lincoln counties beginning May 1, 2014. On July 23, 2013, the Governor of Maine formally requested, pursuant to CAA section 211(k)(6)(B), that the EPA extend the requirement for the sale of RFG to these counties beginning on May 1, 2014.

The Maine legislature subsequently enacted an emergency law, Public Law 2013 c.453, effective March 6, 2014, to postpone the requirement for the sale of RFG in these counties until June 1, 2015. Pursuant to that legislation, the Commissioner for the State of Maine's Department of Environmental Protection (DEP) submitted a request to the EPA dated March 10, 2014, modifying Maine's request for the implementation date for the sale of RFG in the Southern Maine Counties to coincide with June 1, 2015.⁵

⁵ The EPA has determined that the original petition from the Governor of Maine, together with the revised Maine legislation and the Commissioner's letter, serve as a petition from the Governor under CAA section 211(k)(6)(B) seeking commencement of the prohibition in CAA 211(k)(5) in the Southern Maine Counties on June 1, 2015.

Copies of the Commissioner's letter, the letter from the Governor of the State of Maine dated July 23, 2013, and the Maine legislation establishing the use of RFG in the Southern Maine Counties are available in the docket at EPA-HQ-OAR-2014-0283.

C. Proposed Date for the Commencement of a Prohibition on the Sale of Conventional Gasoline in the Southern Maine Counties

Based on our evaluation of the appropriate lead time and start dates, and pursuant to Maine's request for a June 1, 2015 implementation date and the provisions of CAA section 211(k)(6), the EPA is proposing to extend the CAA section 211(k)(5) prohibition against the sale of conventional (i.e., non-reformulated) gasoline in RFG covered areas to the Southern Maine Counties. The Southern Maine Counties are part of the ozone transport region as defined in CAA section 184. They are not currently classified under subpart 2 of Part D of CAA subchapter I as Marginal, Moderate, Serious, or Severe ozone nonattainment areas. Based on Maine's request for a June 1, 2015 implementation date, the EPA is proposing that a prohibition on the sale of conventional gasoline in the Southern Maine Counties commence as of May 1, 2015 for all regulated entities in these counties other than retailers and wholesale purchaser-consumers (i.e., refiners, importers, and distributors), and as of June 1, 2015 for retailers and wholesale purchaser-consumers. Thus, if this action is finalized as proposed, conventional gasoline could not be sold to consumers in the Southern Maine Counties as of June 1, 2015. Only RFG could be sold to consumers in these counties as of June 1, 2015.

Further, under CAA section 211(k)(6)(B)(ii)(II) the State of Maine would be prohibited from opting out of the federal RFG program for the Southern Maine Counties for four years after the commencement of the area's opt-in. Thus, if this action is finalized as proposed, the State of Maine may not opt out of the federal RFG program for the Southern Maine Counties before May 1, 2019 for all regulated entities other than retailers and purchaser-consumers, and not before June 1, 2019 for retailers and purchaser-consumers, respectively. The EPA is also adding in its RFG opt-out regulation at 40 CFR 80.72 a provision to reflect that there is a four-year minimum opt-in period for areas that opt into the RFG program on the basis of their location within the ozone transport region. This clarification will align the federal regulation for RFG opt-out requirements with CAA section 211(k)(6)(B)(ii)(II).

The EPA believes the dates proposed in today's action would provide a reasonable balance by achieving air quality benefits in southern Maine by the start of the 2015 peak ozone season and providing adequate lead time for industry to prepare for program implementation. The proposed dates are consistent with the State's request that the EPA require RFG to be sold in the Southern Maine Counties to coincide with the beginning of the high ozone season, which begins June 1 of each year. Thus, the dates would provide environmental benefits by allowing southern Maine to achieve volatile organic compound (VOC) reduction benefits for the 2015 VOC control season. The proposed dates are also consistent with the statutory requirement that the EPA set the date for commencement of the prohibition within two years of the EPA's approval of the application by the Governor. The EPA's approval of the Governor's request will occur in the final rule establishing an implementation date.

The EPA is seeking comment on whether the refining and distribution industry has the capacity to supply exclusively federal RFG to the Southern Maine Counties as of May 1, 2015 as proposed in this notice. The EPA also seeks comment on whether the dates for commencement of the prohibition proposed today would provide adequate lead time for industry to ensure supply of RFG to retail outlets, and for retail outlets to plan for, and accomplish, a transition from the sale of conventional gasoline to RFG. The EPA requests that, to the extent possible, commenters provide documentation supporting their comments. Comments supported by documentation will be most valuable to the EPA in making a final decision on the commencement date for the prohibition on the sale of conventional gasoline in the Southern Maine Counties.

As noted above in Section II.A. of today's action, CAA section 211(k)(6)(B) directs the EPA to apply RFG requirements in areas subject to a Governor's petition “as soon as practical” within a two-year period following the EPA's approval of a Governor's petition, and may further extend the date RFG requirements commence based on a determination that there is insufficient capacity to supply RFG. However, the EPA does not have discretion to deny a Governor's request for an opt-in for qualifying areas. Therefore, the scope of this action is limited to setting a date for commencement of opt-in of the Southern Maine Counties to the federal RFG program; it is not to decide whether the Southern Maine Counties may opt into the federal RFG program. The EPA is requesting comment on the proposed commencement dates and whether there will be a sufficient capacity to supply RFG available to these seven counties as of May 1, 2015 for regulated entities such as refiners, importers, and distributors, and as of June 1, 2015 for retailers and purchaser-consumers.

This proposed action would have no effect on the approved Maine State Implementation Plan (SIP). We understand that if today's action is finalized as proposed, the State of Maine intends to submit a proposed SIP revision requesting the removal of the existing 7.8 Reid Vapor Pressure fuel requirements for the Southern Maine Counties. The EPA will consider Maine's request when it is received.

IV. Environmental Impact

The federal RFG program is designed to lead to reductions in ozone-forming emissions. Reductions in ozone precursors are environmentally significant because they lead to reductions in ozone formation, with the associated improvements in human health and welfare. Exposure to ground-level ozone (or smog) can cause respiratory problems, chest pain, and coughing and may worsen bronchitis, emphysema, and asthma. Animal studies suggest that long-term exposure (months to years) to ozone can damage lung tissue and may lead to chronic respiratory illness. The Maine DEP analyzed the emissions benefits which could be achieved by switching from 7.8 RVP fuel to RFG.⁶ The Maine DEP used the EPA's motor vehicle emission factor model, MOVES2010, to estimate, for informational purposes, that motor vehicle VOC emissions could be reduced by 123 tons, or by 6 percent and NOx by 28 tons, or by 1 percent.⁷

⁶ RFG primarily reduces emissions of VOCs. The RFG regulations at 40 CFR 80.41 establish a performance standard that must be met in order for gasoline to meet RFG requirements. Generally, based on survey data, RFG sold in the northeastern states has an RVP of between 6.8 and 7.0 psi. The lower RVP will result in reduction in VOC emissions. The survey data is available at: http://www.epa.gov/otaq/fuels/rfgsurvey.htm

⁷ The Governor of Maine submitted this analysis for calendar year 2014 projected emission reductions with his July 23, 2013 letter requesting a May 1, 2014 effective date. However, Maine is not claiming, and the EPA is not proposing to approve in today's action, any specific amount of emission reductions for the RFG program at this time.

V. Statutory and Executive Order Reviews

A. Executive Order 12866: Regulatory Planning and Review and Executive Order 13563: Improving Regulation and Regulatory Review

This action is not a “significant regulatory action” under the terms of Executive Order 12866 (58 FR 51735, October 4, 1993) and is therefore not subject to review under Executive Orders 12866 and 13563. (76 FR 3821, January 21, 2011).

B. Paperwork Reduction Act

This action does not impose any new information collection burden under the provisions of the Paperwork Reduction Act, 44 U.S.C. 3501 et seq. Burden is defined at 5 CFR 1320.3. The OMB has approved the information collection requirements that apply to the RFG program (see 59 FR 7716, February 16, 1994), and has assigned OMB control number 2060-0277 (EPA ICR No. 1591.25).

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's proposed rule on small entities, small entity is defined as: (1) Defined by the Small Business Administration's (SBA) regulations a 13 CFR 121.201; (2) a small governmental jurisdiction that is a government of a city, county, town, school district or special district with a population of less than 50,000; and (3) a small organization that is any not-for-profit enterprise which is independently owned and operated and is not dominant in its field.

After considering the economic impacts of today's proposed rule on small entities, I certify that this action would not have a significant adverse impact on a substantial number of small entities. In promulgating the RFG regulations for conventional gasoline, the EPA analyzed the impact of the regulations on small entities. The EPA concluded that the regulations may possibly have some economic effect on a substantial number of small refiners, but that the regulations may not significantly affect other small entities, such as gasoline blenders, terminal operators, service stations and ethanol blenders. See 59 FR 7810-7811 (February 16, 1994). As stated in the preamble to the final RFG rule, exempting small refiners from the RFG regulations would not meet CAA requirements. 59 FR 7810. However, since most small refiners are located in the mountain states or in California, which has its own RFG program, the vast majority of small refiners are unaffected by the federal RFG requirements (although all refiners of conventional gasoline are subject to the RFG requirements). Moreover, all businesses, large and small, maintain the option to produce conventional gasoline to be sold in areas not obligated by the CAA to receive RFG or those areas which have not chosen to opt into the federal RFG program. A complete analysis of the effect of the RFG regulations on small businesses is contained in the Regulatory Flexibility Analysis which was prepared for the RFG rulemaking, and can be found in the docket for that rulemaking. The docket number is: EPA Air Docket A-92-12.

Today's proposed rule would affect only those refiners, importers or blenders of gasoline that choose to produce or import RFG for sale in the Southern Maine Counties, and gasoline distributors and retail stations in those areas. As discussed above, the EPA determined that, because of their location, the vast majority of small refiners would be unaffected by the RFG requirements. For the same reason, most small refiners would be unaffected by today's action. Other small entities, such as gasoline distributors and retail stations located in the Southern Maine Counties, which would become a covered area if today's proposed rule is finalized as proposed, would be subject to the same requirements as those small entities which are located in current RFG covered areas. The EPA did not find the previous RFG regulations to significantly affect these entities.

We welcome comments on the potential impacts of the proposed rule on small entities. Since the EPA's discretion in this rulemaking is limited to establishment of the date for the application of RFG in the Southern Maine Counties, any comments related to impacts on small entities should be focused on the impact of alternative, and legally permissible, compliance dates.

D. Unfunded Mandates Reform Act (UMRA)

This proposed rule does not contain a Federal mandate that may result in expenditures of $100 million or more for State, local, and tribal governments, in the aggregate, or the private sector in any one year. Thus, this proposed rule is not subject to the requirements of sections 202 and 205 of the UMRA. Although the EPA does not believe that UMRA imposes requirements for this rulemaking, the EPA notes that the environmental and economic impacts of the federal RFG program were assessed in the EPA's Regulatory Impact Analysis for the 1994 RFG regulations.

This proposed rule is also not subject to the requirements of section 203 of UMRA because it contains no regulatory requirements that might significantly or uniquely affect small governments.

E. Executive Order 13132 (Federalism)

This action does not have federalism implications. It would not have substantial direct effects on the States, on the relationship between the national government and the States, or on the distribution of power and responsibilities among the various levels of government, as specified in Executive Order 13132. The proposed rule would impose requirements only on certain refiners and other entities in the gasoline distribution system, and not on States. The requirements of the proposed rule would be enforced by the federal government at the national level. Thus, Executive Order 13132 does not apply to this proposed rule.

F. Executive Order 13175

This action does not have tribal implications, as specified in Executive Order 13175 (65 FR 67249, November 9, 2000). Today's proposed rule would affect only those refiners, importers or blenders of gasoline that choose to produce or import RFG for sale in the Southern Maine Counties, and gasoline distributors and retail stations in those areas. Thus, Executive Order 13175 does not apply to this action.

G. Executive Order 13045: Protection of Children From Environmental Health and Safety Risks

This action is not subject to Executive Order 13045 (62 FR 19885, April 23, 1997) because it is not economically significant as defined in Executive Order 12866, and because the Agency does not believe the environmental health or safety risks addressed by this action present a disproportionate risk to children.

H. Executive Order 13211: Actions Concerning Regulations That Significantly Affect Energy Supply, Distribution, or Use

This action is not subject to Executive Order 13211 (66 FR 28355, May 22, 2001) because it is not a significant regulatory action under Executive Order 12866.

I. National Technology Transfer Advancement Act

Section 12(d) of the National Technology Transfer and Advancement Act of 1995 (NTTAA), Public Law 104-113, 12(d) (15 U.S.C. 272 note) directs the EPA to use voluntary consensus standards in its regulatory activities unless to do so would be inconsistent with applicable law or otherwise impractical. Voluntary consensus standards are technical standards (e.g., materials specifications, test methods, sampling procedures, and business practices) that are developed or adopted by voluntary consensus standards bodies. NTTAA directs the EPA to provide Congress, through OMB, explanations when the Agency decides not to use available and applicable voluntary consensus standards.

This proposed rulemaking does not involve technical standards. Therefore, the EPA is not considering the use of any voluntary consensus standards.

J. Executive Order 12898: Federal Actions To Address Environmental Justice in Minority Populations and Low-Income Populations

Executive Order 12898 (59 FR 7629, February 16, 1994) establishes federal executive policy on environmental justice. Its main provision directs federal agencies, to the greatest extent practicable and permitted by law, to make environmental justice part of their mission by identifying and addressing, as appropriate, disproportionately high and adverse human health or environmental effects of their programs, policies, and activities on minority populations and low-income populations of the United States.

The EPA has determined that this proposed rule would not have disproportionately high and adverse human health or environmental effects on minority or low-income populations because it increases the level of environmental protection for all affected populations without having any disproportionately high and adverse human health or environmental effects on any population, including any minority or low-income population.

List of Subjects in 40 CFR Part 80

Environmental protection, Air pollution control, Fuel additives, Gasoline, Motor vehicle pollution.

Dated: August 18, 2014.
Gina McCarthy,
Administrator.

For the reasons discussed in the preamble, the Environmental Protection Agency proposes to amend 40 CFR part 80 as follows:

PART 80—REGULATION OF FUELS AND FUEL ADDITIVES

1. The authority citation for part 80 continues to read as follows:

Authority 42 U.S.C. 7414, 7521, 7542, 7545, and 7601(a).

2. Section 80.70 is amended by adding paragraph (n) to read as follows:

§ 80.70 Covered areas.

* * * * *

(n) The areas included in paragraph (n) of this section are located within the ozone transport region established under Clean Air Act section 184(a), are not classified as a marginal, moderate, serious, or severe ozone nonattainment area, and have opted into the reformulated gasoline program. They are covered areas for the purposes of subparts D, E, and F of this part.

(1) The southern Maine counties of York, Cumberland, Sagadahoc, Androscoggin, Kennebec, Knox, and Lincoln are a covered area beginning June 1, 2015. The prohibitions of Clean Air Act section 211(k)(5) apply to all persons other than retailers and wholesale purchaser-consumers in these counties beginning May 1, 2015. The prohibitions of section 211(k)(5) of the Clean Air Act apply to retailers and wholesale purchaser-consumers in these counties beginning on June 1, 2015.

(2) [Reserved]

3. Section 80.72 is amended by adding paragraph (c)(8) to read as follows:

§ 80.72 Procedures for opting out of the covered areas.

* * * * *

(c) * * *

(8) Notwithstanding any other provision of paragraph (c) of this section, for an area that opted in pursuant to Clean Air Act section 211(k)(6)(B), the Administrator shall not set the effective date for removal of the area earlier than four years after the commencement date of opt-in.

* * * * *

[FR Doc. 2014-20177 Filed 8-27-14; 8:45 am]

BILLING CODE 6560-50-P